DEPARTMENT OF DEFENSE

Office of the Secretary

[Transmittal Nos. 10-74]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 10-74 with attached transmittal, policy justification, and Sensitivity of Technology.

Dated: September 23, 2011.
Aaron Siegel,
Alternate OSD Federal Register Liaison Officer, Department of Defense.

BILLING CODE 5001-06-P

BILLING CODE 5001-06-C

Transmittal No. 10-74

Notice of Proposed Issuance of Letter of Offer Pursuant to Section 36(b)(1)of the Arms Export Control Act

(i) Prospective Purchaser: Kingdom of Saudi Arabia

(ii) Total Estimated Value:

Major Defense Equipment* | $342 million
Other | 544 million
Total | 886 million
* as defined in Section 47(6) of the Arms Export Control Act.

(iii) Description and Quantity or Quantities of Articles or Services under Consideration for Purchase: 36 M777A2 Howitzers, 54 M119A2 Howitzers, 6 AN/TPQ-36(V) Fire Finder Radar Systems, 24 Advanced Field Artillery Tactical Data Systems (AFATDS), 17,136 rounds M107 155mm High Explosive (HE) ammunition, 2,304 rounds M549 155mm Rocket Assisted Projectiles (RAPs), 60 M1165A1 High Mobility Multipurpose Vehicles (HMMWVs), 120 M1151A1 HMMWVs, 252 M1152A1 HMMWVs, Export Single Channel Ground And Airborne Radio Systems (SINCGARS), electronic support systems, 105mm ammunition, various wheeled/tracked support vehicles, spare and repair parts, technical manuals and publications, translation services, training, USG and contractor technical assistance, and other related elements of logistical and program support.

(iv) Military Department: Army (VUI, VUJ, VUO, VUP, VUQ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 15 Sep 2011

POLICY JUSTIFICATION

Kingdom of Saudi Arabia—Howitzers, Radars, HMMWVs, Ammunition, and Related Support

The Government of the Kingdom of Saudi Arabia has requested a possible sale for 36 M777A2 Howitzers, 54 M119A2 Howitzers, 6 AN/TPQ-36(V) Fire Finder Radar Systems, 24 Advanced Field Artillery Tactical Data Systems (AFATDS), 17,136 rounds M107 155mm High Explosive (HE) ammunition, 2,304 rounds M549 155mm Rocket Assisted Projectiles (RAPs), 60 M1165A1 High Mobility Multipurpose Vehicles (HMMWVs), 120 M1151A1 HMMWVs, 252 M1152A1 HMMWVs, Export Single Channel Ground And Airborne Radio Systems (SINCGARS), electronic support systems, 105mm ammunition, various wheeled/tracked support vehicles, spare and repair parts, technical manuals and publications, translation services, training, USG and contractor technical assistance, and other related elements of logistical and program support. The estimated cost is $886 million.

This proposed sale will contribute to the foreign policy and national security of the United States by helping to improve the security of a friendly country which has been and continues to be an important force for political stability and economic progress in the Middle East.

The proposed sale will augment the Kingdom of Saudi Arabia's existing light artillery capabilities. The Kingdom of Saudi Arabia will use the enhanced capability as a deterrent to regional threats and to strengthen its homeland defense. The Kingdom of Saudi Arabia, which already has 155mm and 105mm howitzers and support vehicles and equipment in its inventory, will have no difficulty absorbing this equipment into its armed forces.

The proposed sale of this equipment will not alter the basic military balance in the region.

The prime contractors will be AM General, LLC in South Bend, IN, BAE Systems in the United Kingdom & Hattiesburg, MS, ITT Defense and Information Solutions in McLean, VA, Thales Raytheon Systems in Fullerton CA, Smith Detection in Edgewood, MD, SRCTec, in Syracuse, NY, Northrop Grumman Corporation in Apopka, FL, and General Dynamics C4 Systems in Taunton, MA. There are no known offset agreements proposed in connection with this potential sale.

Implementation of this sale will not require the assignment of any U.S. Government or contractor representatives to the Kingdom of Saudi Arabia.

There will be no adverse impact on U.S. defense readiness as a result of this proposed sale.

[FR Doc. 2011-25015 Filed 9-28-11; 8:45 am]

BILLING CODE 5001-06-P